EQUAL EMPLOYMENT OPPORTUNITY COMMISSION

Agency Information Collection Activities: Proposed Collection; Submission for OMB Review

AGENCY: Equal Employment Opportunity Commission.

ACTION: Final notice of submission for OMB review—no change: Employer Information Report (EEO-1).

SUMMARY: In accordance with the Paperwork Reduction Act of 1995, the Equal Employment Opportunity Commission (EEOC) hereby gives notice that it has submitted to the Office of Management and Budget (OMB) a request for an extension through 2010 of the existing collection requirements under 29 CFR 1602, Recordkeeping and Reporting Requirements under Title VII. The Commission has requested an extension of an existing collection as listed below.

DATES: Written comments on this final notice must be submitted on or before February 12, 2009.

ADDRESSES: The Request for Clearance (SF 83-I), supporting statement, and other documents submitted to OMB for review may be obtained from: Ronald Edwards, Director, Program Research and Surveys Division, 131 M Street NE., Washington, DC 20507. Comments on this final notice must be submitted to Chandana Achanta, Office of Information and Regulatory Affairs, Office of Management and Budget, 725 17th Street, NW., Room 10235, New Executive Office Building, Washington, DC 20503 or electronically mailed to Chandana_L._Achanta@omb.eop.gov. Comments should also be sent to Stephen Llewellyn, Executive Officer, Executive Secretariat, Equal Employment Opportunity Commission, 10th Floor, 131 M Street, NE., Washington, DC 20507 by the Federal eRulemaking Portal: http://www.regulations.gov. After accessing this web site, follow its instructions for submitting comments. As a convenience to commentators, the Executive Secretariat will accept comments totaling six or fewer pages by facsimile (“FAX”) machine. This limitation is necessary to assure access to the equipment. The telephone number of the FAX receiver is (202) 663-4114. (This is not a toll-free number). Receipt of FAX transmittals will not be acknowledged, except that the sender may request confirmation of receipt by calling the Executive Secretariat staff at (202) 663-4070 (voice) or (202) 663-4074 (TDD). (These are not toll-free telephone numbers).

FOR FURTHER INFORMATION CONTACT: Ronald Edwards, Director,Program Research and Surveys Division, 131 M Street, NE., Washington, DC 20507, at (202) 663-4958 or TDD (202) 663-7063. This notice is also available in the following formats: large print, braille, audio tape and electronic file on computer disk. Requests for this notice in an alternative format should be made to the Publications Center at 1-800-669-3362.

SUPPLEMENTARY INFORMATION: A notice that EEOC would be submitting this request was published in the Federal Register on October 3, 2008, allowing for a 60-day public comment period. One comment was received stating that the period of time for the extension should be longer.

Overview of This Information Collection

Type of Review: Extension—No change.

Collection Title: Employer Information Report (EEO-1).

Frequency of Report: Annual.

Type of Respondent: Private industry employers with 100 or more employees and certain Federal Government contractors and first-tier subcontractors with 50 or more employees.

Description of Affected Public: Private industry employers with 100 or more employees and certain Federal Government contractors and first-tier subcontractors with 50 or more employees.

Reporting Hours: 599,000.

Federal Cost: $2.1 million.

Number of Forms: 1.

Abstract: Section 709 (c) of Title VII of the Civil Rights Act of 1964, as amended, 42 U.S.C. 2000e-8(c), requires employers to make and keep records relevant to a determination of whether unlawful employment practices have been or are being committed and to make reports therefrom as required by the EEOC. Accordingly, the EEOC has issued regulations, Title 29, Chapter XIV, Subpart B, §§ 1602.7, which set forth the reporting requirements for various kinds of employers. Employers in the private sector with 100 or more employees and some Federal contractors with 50 or more employees have been required to submit EEO-1 reports annually since 1966. The individual reports are confidential. EEO-1 data are used by EEOC to investigate charges of employment discrimination against employers in private industry and to provide information about the employment status of minorities and women. The data are shared with the Office of Federal Contract Compliance Programs (OFCCP), U.S. Department of Labor, and several other Federal agencies. Pursuant to § 709(d) of Title VII of the Civil Rights Act of 1964, as amended, EEO-1 data are also shared with eighty-six State and local Fair Employment Practices Agencies (FEPAs).

Burden Statement: The estimated number of respondents included in the annual EEO-1 survey is 45,000 private employers. The estimated number of establishment-based responses per reporting company is between 3 and 4 EEO-1 reports annually. The annual number of responses is approximately 170,000. The form is estimated to impose 599,000 burden hours annually. In order to help reduce survey burden, respondents are encouraged to report data electronically whenever possible.

Dated: January 8, 2009.
For the Commission.
Reed L. Russell,
Legal Counsel.

[FR Doc. E9-490 Filed 1-12-09; 8:45 am]

BILLING CODE 6570-01-P